DEPARTMENT OF AGRICULTURE

Agricultural Marketing Service

[Doc. No. AMS-LPS-13-0066]

Results of Soybean Request for Referendum

AGENCY: Agricultural Marketing Service, USDA.

ACTION: Notice.

SUMMARY: The results of the Agricultural Marketing Service's (AMS) Request for Referendum indicate that too few soybean producers wanted a referendum on the Soybean Promotion and Research Order (Order) for one to be conducted. The Request for Referendum was conducted from May 5, 2014, through May 30, 2014, at the U.S. Department of Agriculture's (USDA) Farm Service Agency county offices. To trigger a referendum, 56,999 soybean producers needed to complete a valid Request for Referendum. The total number of soybean producers participating in the referendum was 355. The number of valid petitions received was 324.

FOR FURTHER INFORMATION CONTACT: James R. Brow, Research and Promotion Division, Livestock, Poultry, and Seed Program, AMS, USDA, Room 2610-S, STOP 0251, 1400 Independence Avenue SW., Washington, DC 20250-0251; Telephone 202/720-0633; Fax 202/720-1125; or email to James.Brow@ams.usda.gov.

SUPPLEMENTARY INFORMATION: Pursuant to the Soybean Promotion, Research, and Consumer Information Act (Act) (7 U.S.C. 6301 et seq.), every 5 years the Secretary of Agriculture (Secretary) gives soybean producers the opportunity to request a referendum on the Order. If the Secretary determines that at least 10 percent of U.S. producers engaged in growing soybeans (not in excess of one-fifth of which may be producers in any one State) support the conduct of a referendum, the Secretary must conduct a referendum within 1 year of that determination. If these requirements are not met, a referendum is not conducted.

A notice of opportunity to Request a Soybean Referendum was published in the Federal Register (79 FR 12037) on March 4, 2014. To be eligible to participate in the Request for Referendum, producers or the producer entity that they are authorized to represent must provide supporting documentation showing that they or the producer entity they represent paid an assessment sometime during the representative period between January 1, 2012, and December 31, 2013. Based on USDA data, there are 569,998 soybean producers in the United States.

A total of 355 producers participated in the Request for Referendum. Only 324 valid requests for a referendum were completed by eligible soybean producers. This number does not meet the requisite number of 56,999. Therefore, based on the results, a referendum will not be conducted. In accordance with the provisions of the Act, soybean producers will be provided another opportunity to request a referendum in 5 years.

The following are the State-by-State results of the Request for Referendum:

State | Valid ballots
Alabama | 0
Alaska | 0
Arizona | 0
Arkansas | 0
California | 0
Colorado | 0
Connecticut | 0
Delaware | 3
Florida | 0
Georgia | 0
Hawaii | 0
Idaho | 0
Illinois | 43
Indiana | 48
Iowa | 56
Kansas | 6
Kentucky | 2
Louisiana | 0
Maine | 0
Maryland | 1
Massachusetts | 0
Michigan | 10
Minnesota | 25
Mississippi | 0
Missouri | 9
Montana | 0
Nebraska | 2
Nevada | 0
New Hampshire | 0
New Jersey | 0
New Mexico | 0
New York | 1
North Carolina | 5
North Dakota | 3
Ohio | 73
Oklahoma | 2
Oregon | 0
Pennsylvania | 2
Rhode Island | 0
South Carolina | 0
South Dakota | 17
Tennessee | 0
Texas | 2
Utah | 0
Vermont | 0
Virginia | 1
Washington | 0
West Virginia | 7
Wisconsin | 6
Wyoming | 0

Authority: 7 U.S.C. 6301-6311.

Dated: September 4, 2014.
Rex A. Barnes,
Associate Administrator.

[FR Doc. 2014-21509 Filed 9-9-14; 8:45 am]

BILLING CODE P